DEPARTMENT OF ENERGY

Federal Energy Regulatory Commission

[Project No. 12715-003]

Fairlawn Hydroelectric Company, LLC; Notice of Public Meeting

On August 5, 2011, Office of Energy Projects staff may participate in a public meeting hosted by the U.S. Army Corps of Engineers, Baltimore District (Corps) for the proposed Jennings Randolph Project No. 12715-003 (project). The purpose of the meeting is to discuss potential dam safety issues identified by the Maryland Department of the Environment related to the Corps' dam and any related effects on the project's licensing proceeding.

The meeting will begin at 10 a.m. EDT at the City Crescent Building, 10 S. Howard Street, Baltimore, MD 21201, Room 8510. Interested parties wishing to attend should contact Raymond Smith at (410) 962-4507 or by e-mail at Raymond.F.Smith@usace.army.mil.

Dated: July 22, 2011.
Nathaniel J. Davis, Sr.,
Deputy Secretary.

[FR Doc. 2011-19085 Filed 7-27-11; 8:45 am]

BILLING CODE 6717-01-P